NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 17, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the New Address for Requesting Schedules Using E-Mail)

1. Department of Agriculture, Agricultural Marketing Service (N1-136-05-6, 8 items, 8 temporary items). Inputs, outputs, master files, system documentation, and electronic mail and word processing copies associated with an electronic system used to collect, analyze, and report on pesticide residues and food-borne pathogens found in agricultural commodities and the water supply. Test results were previously approved as permanent as part of other electronic systems.

2. Department of Agriculture, Agricultural Marketing Service (N1-136-06-10, 7 items, 6 temporary items). Inputs, master files, routine or ad hoc reports, system documentation, and electronic mail and word processing copies associated with an electronic system used to track federal recordkeeping compliance by certified private applicators of restricted use pesticides. Proposed for permanent retention are recordkeeping copies of annual summary reports.

3. Department of the Air Force, Agency-wide (N1-AFU-05-2, 6 items, 6 temporary items). Directives, instructions, correspondence, and other records, including electronic data that supplements these records, relating to a structured program to improve performance of mission essential tasks. Also included are electronic copies of records created using electronic mail and word processing.

4. Department of the Army, Army Review Boards Agency (N1-AU-06-1, 2 items, 2 temporary items). Case files relating to reviews of personnel actions such as the correction of military records, discharge, grade determination, disability, clemency and parole. Also included are electronic copies of records created using electronic mail and word processing. Records relating to changes of status are retained in the individual's official personnel file and approved as permanent. This schedule authorizes the agency to apply the proposed disposition instructions to any recordkeeping medium.

5. Department of Defense, National Geospatial-Intelligence Agency (N1-537-05-1, 27 items, 12 temporary items). Poor quality and duplicate overhead, airborne, experimental, and commercial imagery, and spectral data not used in support of agency intelligence and analysis production. Proposed for permanent retention are recordkeeping copies of good quality overhead, airborne, ground, experimental, and commercial imagery, and spectral data used in support of agency intelligence and analysis production.

6. Department of Health and Human Services, Centers for Disease Control and Prevention, (N1-442-05-2, 4 items, 4 temporary items). Recorded telephone messages and associated tracking systems in paper and electronic format relating to calls received at the emergency operations center regarding public health concerns. Also included are electronic copies of records created using electronic mail and word processing.

7. Department of Homeland Security, Transportation Security Administration (N1-560-04-13, 20 items, 8 temporary items). Records relating to the development of transportation security policy, including information systems security files, emergency planning files, routine case files, Inspector General local office audit files, and policy development files for special events. Also included are electronic copies of records created using electronic mail and word processing. Proposed for permanent retention are recordkeeping copies of general transportation security policy, and policy development files for mass transit, aviation, rail, postal, shipping, maritime, pipeline, highway, motor carrier, and cross modal security programs. Also proposed for permanent retention are case files of historical significance, research and development precedent-setting case files, case files concerning specific threats, and the records of security and intelligence boards.

8. Department of Homeland Security, Transportation Security Administration (N1-560-06-1, 14 items, 12 temporary items). Records commonly created across the agency relating to program planning, policy and guidance, marketing and customer outreach, customer service, and special event security. Included are such records as work plans, standard operating procedures, correspondence, chronological and reading files, reports and statistics, and intra-agency agreement files. Also included are electronic copies of records created using electronic mail and word processing. Proposed for permanent retention are recordkeeping copies of mission-related committee records and records created in compliance with the provisions of the Sunshine Act.

9. Department of Homeland Security, U.S. Coast Guard (N1-26-05-9, 12 items, 6 temporary items). Records of the International Ice Patrol, including iceberg sightings reports, air reconnaissance logs, radar film, reference requests, and electronic copies of records created using electronic mail and word processing. Proposed for permanent retention are master files, system documentation, ice charts, and annual reports associated with an electronic system used to estimate iceberg drift and deterioration. Also proposed for permanent retention are recordkeeping copies of agency-directed research and development records relating to icebergs.

10. Department of Homeland Security, U.S. Coast Guard (N1-26-06-2, 4 items, 4 temporary items). Records relating to consultations on the environmental impact of deploying underwater defensive equipment. Included are such records as correspondence, justifications, expert opinions, recommendations, environmental assessments, and remediation plans. Also included are electronic copies of records created using electronic mail and word processing.

11. Department of the Interior, U.S. Geological Survey (N1-57-05-1, 106 items, 106 temporary items). Records of the Water Resources Division, including research and investigative project case files, technical reviews, equipment plans and specifications, records relating to research and data collection activities along international border areas of the United States, and records relating to the collection and analysis of observational data on surface water, ground water, water quality, sediment, biology, stream-channel and geomorphology, water use, and hydrology, exclusive of data entered into the National Water Information System and the Laboratory Information Management System. Also included are electronic copies of records created using electronic mail and word processing.

12. Department of Justice, Federal Bureau of Investigation (N1-65-06-3, 3 items, 3 temporary items). Records relating to requests for arrest and conviction records by the subjects of those records. Also included are electronic copies of records created using electronic mail and word processing.

13. Department of State, Executive Secretariat (N1-59-06-5, 6 items, 2 temporary items). Daily and weekly reports generated by the Secretariat Tracking and Retrieval System. Proposed for permanent retention are the system inputs, master files, and documentation.

14. Department of the Treasury, Bureau of Engraving and Printing (N1-318-06-1, 3 items, 3 temporary items). Records relating to tests of laboratory equipment and materials. Included are such records as calibration and verification log books, quality of production materials log books, and reports on test results.

15. Veterans Health Administration, Office of Research Oversight (N1-15-06-1, 3 items, 3 temporary items). Investigative case files, including electronic copies of records created using electronic mail and word processing.

Dated: February 24, 2006.
Michael J. Kurtz,
Assistant Archivist for Records Services—Washington, DC.

[FR Doc. E6-2937 Filed 3-1-06; 8:45 am]

BILLING CODE 7515-01-P